DEPARTMENT OF ENERGY

Federal Energy Regulatory Commission

[Docket No. EL01-13-000, et al.]

Duke Energy Corporation, et al.; Electric Rate and Corporate Regulation Filings

November 24, 2000.

Take notice that the following filings have been made with the Commission:

1. Duke Energy Corporation, Carolina Power & Light Company, South Carolina Electric and Gas Company, GridSouth Transco, LLC

[Docket No. EL01-13-0000]

Take notice that on November 3, 2000, Duke Energy Corporation (Duke), Carolina Power & Light Company (CP&L), and South Carolina Electric and Gas Company (SCE&G), (collectively, the Transmission Owners) tendered for filing with the Federal Energy Regulatory Commission (Commission) a Petition for Declaratory Order pursuant to Rule 207 of the Commission's Rules of Practice and Procedure, 18 CFR 385.207, seeking Commission ratification of proposed accounting and rate treatment of Start-Up Costs associated with establishing a new Regional Transmission Organization (RTO) formed in compliance with FERC Order No. 2000.

Comment date: December 15, 2000, in accordance with Standard Paragraph E at the end of this notice.

2. Illinois Power Company

[Dockets Nos. ER99-4415-004, ER99-4530-004 and EL00-7-004]

Take notice that on November 9, 2000, Illinois Power Company (Illinois Power) tendered for filing a compliance filing under which Illinois Power modified certain provisions of its Open Access Transmission Tariff (OATT). In addition, Illinois Power re-filed its OATT, FERC Electric Tariff, Third Revised, Volume No. 8, with designations in accordance with the Commission's Order No. 614. Other than the designations, the only modifications to the OATT are those made for the compliance filing.

Copies of this filing have been served upon all affected customers under Illinois Power's OATT, upon the Illinois Commerce Commission, and upon all parties on the official service lists compiled by the Secretary of the Federal Energy Regulatory Commission in these proceedings.

Comment date: December 11, 2000, in accordance with Standard Paragraph E at the end of this notice.

3. Central Maine Power Company

[Docket No. ER00-982-005]

Take notice that on November 14, 2000, Central Maine Power Company (CMP) tendered for filing with the Federal Energy Regulatory Commission (Commission) a Compliance Report pursuant to the Commission's Letter Order issued on September 28, 2000, in Docket Nos. ER00-26-000, et al.

Comment date: December 14, 2000, in accordance with Standard Paragraph E at the end of this notice.

4. Maine Electric Power Company

[Docket No. OA01-2-000]

Take notice that on November 9, 2000, Maine Electric Power Company (MEPCO) on November 9, 2000 tendered for filing pursuant to Section 37.4(c) of the Code of Federal Regulations, 18 CFR 37.4(c), the revised Standards of Conduct to be followed by MEPCO personnel.

MEPCO requests that the Standards of Conduct become effective on November 10, 2000.

MEPCO served copies of the filing upon the persons listed in the Commission's official service list and the Maine Public Utilities Commission.

Comment date: December 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-30724 Filed 12-1-00; 8:45 am]

BILLING CODE 6717-01-P